SUSQUEHANNA RIVER BASIN COMMISSION

Actions Taken at the March 13, 2025 Meeting

AGENCY: Susquehanna River Basin Commission.

ACTION: Notice.

SUMMARY: As part of its regular business meeting held on March 13, 2025, in Harrisburg, Pennsylvania the Commission approved the applications of certain water resources projects and took additional actions, as set forth in the SUPPLEMENTARY INFORMATION below.

DATES: March 14, 2025.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: The Commission took the following actions at its March 13, 2025 business: (1) Adopted Resolution 2025-01 to adopt a general permit, GP-04 relating to Into Basin Diversions of Water; (2) Tabled Resolution 2025-02 related to an update to its 2015 Dry Cooling Resolution until the June 2025 business meeting; and (3) Approved and/or tabled 39 actions on 24 regulatory program projects as listed below.

Project Applications Approved

1. Project Sponsor and Facility: Beavertown Municipal Authority, Beaver Township, Snyder County, Pa. Applications for renewal of groundwater withdrawals (30-day averages) of up to 0.199 mgd from Well 6 and 0.199 mgd from Well 7 (Docket No. 19930901).

2. Project Sponsor and Facility: Bedford Township Municipal Authority, Bedford County, Pa. Applications for renewal of groundwater withdrawals (30-day averages) of up to 0.324 mgd from Bowman Well 1 and 0.100 mgd from Bowman Well 2 (Docket No. 19990502). Service area is located in an Environmental Justice area.

3. Project Sponsor: BlueTriton Brands, Inc. Project Facility: Pine Grove Spring, Pine Grove Township, Schuylkill County, Pa. Applications for renewal of groundwater withdrawal of up to 0.288 mgd (30-day average) from Borehole PB-1, consumptive use of up to 0.288 mgd (30-day average), and an out-of-basin diversion of up to 0.288 mgd (30-day average) (Docket No. 20000202).

4. Project Sponsor: Borough of Ephrata. Project Facility: Ephrata Area Joint Authority, Ephrata Borough, Lancaster County, Pa. Application for renewal of groundwater withdrawal of up to 0.260 mgd (30-day average) from Well 2 (Docket No. 19940706). Service area is located in an Environmental Justice area.

5. Project Sponsor and Facility: College Township Water Authority, College Township, Centre County, Pa. Application for groundwater withdrawal of up to 1.405 mgd (30-day average) from Well OH-20.

6. Project Sponsor and Facility: Diversified Production LLC (Wilson Creek), Duncan Township, Tioga County, Pa. Application for renewal of surface water withdrawal of up to 0.720 mgd (peak day) (Docket No. 20200302).

7. Project Sponsor and Facility: DS Services of America, Inc., West Earl Township, Lancaster County, Pa. Application for renewal of consumptive use of up to 0.242 mgd (30-day average) (Docket No. 20000203). Located adjacent to an Environmental Justice area.

8. Project Sponsor and Facility: EQT ARO LLC (Lycoming Creek), Lewis Township, Lycoming County, Pa. Application for renewal of surface water withdrawal of up to 1.340 mgd (peak day) (Docket No. 20200301).

9. Project Sponsor: First Investors General, Inc. Project Facility: Cool Creek Golf Club, Hellam Township, York County, Pa. Application for renewal with modification for consumptive use of up to 0.190 mgd (30-day average) (Docket No. 20000602).

10. Project Sponsor: H&K Group, Inc. Project Facility: Penn/MD Materials Quarry, Fulton Township, Lancaster County, Pa. Applications for consumptive use of up to 0.024 mgd (peak day) and groundwater withdrawals (30-day averages) of up to 1.980 mgd from the Pit Sump, 0.004 mgd from the Primary and Secondary Well, and 0.011 mgd from the Tertiary Well.

11. Project Sponsor: HP Hood LLC. Project Facility: Arkport NY Plant, Hornellsville Town, Steuben County, N.Y. Application for groundwater withdrawal of up to 0.600 mgd (30-day average) from Well 2.

12. Project Sponsor and Facility: Huntsinger Farms, Inc. (Deep Creek 3), Hegins Township, Schuylkill County, Pa. Application for surface water withdrawal of up to 0.504 mgd (peak day).

13. Project Sponsor and Facility: JKLM Energy, LLC (Tioga River), Tioga Township, Tioga County, Pa. Application for surface water withdrawal of up to 3.000 mgd (peak day).

14. Project Sponsor: McStern, L.L.C. Project Facility: Deer Valley Golf Course, South Hanover Township, Dauphin County, Pa. Application for renewal with modification for consumptive use of up to 0.217 mgd (30-day average) (Docket No. 20020618).

15. Project Sponsor and Facility: Meadia Heights Golf Club LLC (Conestoga River), West Lampeter Township, Lancaster County, Pa. Applications for renewal of surface water withdrawal of up to 0.249 mgd (peak day) and consumptive use of up to 0.249 mgd (30-day average) (Docket No. 20200910). Located in an Environmental Justice area.

16. Project Sponsor: Michael Foods, Inc. Project Facility: Papetti's Hygrade Egg Products, Inc., d.b.a. Michael Foods Egg Products Company, Upper Mahantango Township, Schuylkill County, Pa. Applications for renewal of consumptive use of up to 0.225 mgd (peak day) and groundwater withdrawals (30-day averages) of up to 0.186 mgd from Well 1, 0.079 mgd from Well 2, and 0.350 mgd from Well 3 (Docket No. 19990903).

17. Project Sponsor and Facility: Repsol Oil & Gas USA, LLC (Sugar Creek), Troy Township, Bradford County, Pa. Application for surface water withdrawal of up to 0.750 mgd (peak day).

18. Project Sponsor: Susquehanna Nuclear, LLC. Project Facility: Susquehanna Steam Electric Station, Salem Township, Luzerne County, Pa. Applications for renewal of surface water withdrawal of up to 76.000 mgd (peak day) from the Susquehanna River, consumptive use of up to 53.000 mgd (peak day), and groundwater withdrawal of up to 0.125 (30-day average) from Well TW-2 (Docket No. 19950301).

19. Project Sponsor and Facility: SWN Production Company, LLC (Susquehanna River), Oakland Township, Susquehanna County, Pa. Application for renewal of surface water withdrawal of up to 3.000 mgd (peak day) (Docket No. 20200305).

20. Project Sponsor and Facility: SWN Production Company, LLC (Tunkhannock Creek), Lenox Township, Susquehanna County, Pa. Application for renewal of surface water withdrawal of up to 1.218 mgd (peak day) (Docket No. 20200306).

21. Project Sponsor: Valley CC LLC. Project Facility: Valley Country Club, Sugarloaf Township, Luzerne County, Pa. Applications for renewal of groundwater withdrawals (30-day averages) of up to 0.090 mgd from the Shop Well and 0.090 mgd from the Pumphouse Well (Docket No. 20090632).

22. Project Sponsor: Weaverland Valley Authority. Project Facility: Terre Hill Water System, East Earl Township, Lancaster County, Pa. Application for renewal of groundwater withdrawal of up to 0.098 mgd (30-day average) from Well 6 (Docket No. 19880405).

23. Project Sponsor and Facility: Westfield Borough, Tioga County, Pa. Application for groundwater withdrawal of up to 0.412 mgd (30-day average) from the Harvey Well.

Project Tabled

1. Project Sponsor and Facility: Fredericksburg Sewer and Water Authority, Bethel Township, Lebanon County, Pa. Applications for groundwater withdrawals (30-day averages) of up to 0.158 mgd from Well 7 and 0.144 mgd from Well 8.

Authority: Public Law 91-575, 84 Stat. 1509 et seq., 18 CFR parts 806, 807, and 808.

Dated: March 18, 2025.
Jason E. Oyler,
General Counsel and Secretary to the Commission.

[FR Doc. 2025-04895 Filed 3-20-25; 8:45 am]

BILLING CODE 7040-01-P